DEPARTMENT OF AGRICULTURE

Forest Service

South Central Idaho Resource Advisory Committee

AGENCY: Forest Service, USDA.

ACTION: Notice of meeting.

SUMMARY: The South Central Idaho Resource Advisory Committee (RAC) will meet in Twin Falls, Idaho. The committee is authorized under the Secure Rural Schools and Community Self-Determination Act (Pub. L. 110-343) (the Act) and operates in compliance with the Federal Advisory Committee Act. The purpose of the committee is to improve collaborative relationships and to provide advice and recommendations to the Forest Service concerning projects and funding consistent with Title II of the Act. The meeting is open to the public. The purpose of the meeting is to review and recommend Title II projects for the Salmon-Challis National Forest brought forward by the Central Idaho RAC subcommittee to the South Central Idaho RAC.

DATES: The meeting will be held June 27, 2014 from 9:00-11:00. All RAC meetings are subject to cancellation. For status of meeting prior to attendance, please contact the person listed under FOR FURTHER INFORMATION CONTACT.

ADDRESSES: The meeting will be held by teleconference. The number to call in will be: 888-844-9904 the passcode is 2552600#.

Written comments may be submitted as described under SUPPLEMENTARY INFORMATION. All comments, including names and addresses when provided, are placed in the record and are available for public inspection and copying. The public may inspect comments received at Sawtooth National Forest, 2647 Kimberly Road East, Twin Falls, Idaho. Please call ahead to facilitate entry into the building.

FOR FURTHER INFORMATION CONTACT: Julie Thomas, Designated Federal Official by phone at 208-737-3262 or via email at jathomas@fs.fed.us.

Individuals who use telecommunication devices for the deaf (TDD) may call the Federal Information Relay Service (FIRS) at 1-800-877-8339 between 8:00 a.m. and 8:00 p.m., Eastern Standard Time, Monday through Friday. Please make requests in advance for sign language interpreting, assistive listening devices or other reasonable accomodation for access to the facility or procedings by contacting the person listed FOR FURTHER INFORMATION CONTACT.

SUPPLEMENTARY INFORMATION: Additional RAC information, including the meeting agenda and the meeting summary/minutes can be found at the following Web site: http://fs.usda.gov/Sawtooth. The agenda will include time for people to make oral statements of three minutes or less. Individuals wishing to make an oral statement should request in writing by June 19, 2014 to be scheduled on the agenda. Anyone who would like to bring related matters to the attention of the committee may file written statements with the committee staff before or after the meeting. Written comments and requests for time for oral comments must be sent to Julie Thomas, Designated Federal Official, Sawtooth National Forest, 2647 Kimberly Road East, Twin Falls, Idaho 83301, or by email to jathomas@fs.fed.us, or via facsimile to 208-737-3236.

Dated: June 5, 2014.
Nathan Lancaster,
Acting Forest Supervisor.

[FR Doc. 2014-13707 Filed 6-11-14; 8:45 am]

BILLING CODE 3410-11-P